DEPARTMENT OF EDUCATION

34 CFR Chapter VI

Negotiated Rulemaking Committee, Notice of Additional Committee Meeting—Title IV Federal Student Aid Programs, Gainful Employment in a Recognized Occupation

AGENCY: Office of Postsecondary Education, Department of Education.

ACTION: Notice of intent to establish negotiated rulemaking committee.

SUMMARY: On June 12, 2013, we announced our intention to establish a negotiated rulemaking committee to prepare proposed regulations to establish standards for programs that prepare students for gainful employment in a recognized occupation. We also announced the schedule for two sessions of committee meetings. We now announce the addition of a third session consisting of a one-day committee meeting.

DATES: The date, times, and location of the third committee meeting are set out in the Schedule for Negotiations section under SUPPLEMENTARY INFORMATION, below.

FOR FURTHER INFORMATION CONTACT: For information about the content of this notice, including information about the negotiated rulemaking process, contact: Wendy Macias, U.S. Department of Education, 1990 K Street NW., Room 8017, Washington, DC 20006. Telephone: (202) 502-7526 or by email: wendy.macias@ed.gov.

For general information about the negotiated rulemaking process, see The Negotiated Rulemaking Process for Title IV Regulations, Frequently Asked Questions at http://www2.ed.gov/policy/highered/reg/hearulemaking/hea08/neg-reg-faq.html.

If you use a telecommunications device for the deaf or text telephone, call the Federal Relay Service, toll free, at 1-800-877-8339.

Individuals with disabilities can obtain this document in an accessible format (e.g., braille, large print, audiotape, or compact disc) on request to the program contact person listed under FOR FURTHER INFORMATION CONTACT.

SUPPLEMENTARY INFORMATION: On June 12, 2013, we published a notice in the Federal Register (78 FR 35179) announcing our intention to establish a negotiated rulemaking committee to prepare proposed regulations for the Federal Student Aid programs authorized under title IV of the Higher Education Act of 1965, as amended (HEA) (title IV Federal Student Aid programs) that would establish standards for programs that prepare students for gainful employment in a recognized occupation. In that notice, we set a schedule for two sessions of committee meetings and requested nominations for individual negotiators who represent key stakeholder constituencies for the issues to be negotiated to serve on the committee.

Because of the shutdown of the Federal Government due to the lapse in appropriations for fiscal year 2014, on November 7, 2013, we announced in the Federal Register (78 FR 66865) that we were rescheduling the second session of committee meetings from October 21-23, 2013, to November 18-20, 2013, with the meeting on the final day running from 9:00 a.m. to 5:00 p.m.

We now announce the addition of a third session consisting of one committee meeting to take place December 13, 2013. The meeting will run from 9:00 a.m. to 5:00 p.m. The schedule for the third session follows.

Schedule for Negotiations: The committee will meet for its third and final session on December 13, 2013. The meeting will run from 9:00 a.m. to 5:00 p.m.

The meeting will be held at the U.S. Department of Education at: 1990 K Street NW., Eighth Floor Conference Center, Washington, DC 20006.

Electronic Access to This Document: The official version of this document is the document published in the Federal Register. Free Internet access to the official edition of the Federal Register and the Code of Federal Regulations is available via the Federal Digital System at: www.gpo.gov/fdsys. At this site you can view this document, as well as all other documents of the Department published in the Federal Register, in text or Adobe Portable Document Format (PDF). To use PDF you must have Adobe Acrobat Reader, which is available free at the site. You may also access documents of the Department published in the Federal Register by using the article search feature at: www.federalregister.gov. Specifically, through the advanced search feature at this site, you can limit your search to documents published by the Department.

Program Authority: 20 U.S.C. 1098a.

Dated: December 2, 2013.
Brenda Dann-Messier,
Acting Assistant Secretary for the Office of Postsecondary Education.

[FR Doc. 2013-29072 Filed 12-2-13; 4:15 pm]

BILLING CODE 4000-01-P